NEIGHBORHOOD REINVESTMENT CORPORATION

Sunshine Act Meeting; Finance, Budget & Program Committee Meeting of the Board of Directors

TIME & DATE: 2:00 p.m., Thursday, November 7, 2013.

PLACE: Telephonic Meeting.

STATUS: Open.

CONTACT PERSON: Jeffrey Bryson, General Counsel/Secretary, (202) 760-4101; jbryson@nw.org.

AGENDA:

I. Call to Order

II. Non-Network Grant Policy

III. Lease Renewals

IV. NFMC Timeline—Round 8

V. Budget Update

VI. Organization Underwriting & Grants to Network

VII. A. Financial Report

B. Quarterly Program Reports

C. Corporate Scorecard Report

D. HUD Counseling Rule

E. Grants Report

VIII. Adjournment

Jeffrey T. Bryson,
General Counsel.

[FR Doc. 2013-25930 Filed 10-30-13; 4:15 pm]

BILLING CODE 7570-02-P